DEPARTMENT OF STATE

[Public Notice 3800]

Shipping Coordinating Committee; Notice of Meeting

The Shipping Coordinating Committee will conduct an open meeting at 9:30 a.m. on Thursday, 6 December, 2001, in Room 6319 at U.S. Coast Guard Headquarters, 2100 Second Street, SW., Washington, DC, 20593. The purpose of this meeting will be to report the results of the International Conference on the Control of Harmful Anti-fouling Systems for Ships (AFS Conference) held at the International Maritime Organization headquarters in London, October 2001. In addition, the Subcommittee will discuss plans to prepare a ratification package for transmittal to the Senate supporting the Convention resulting from the AFS Conference.

Documents associated with the AFS Conference may be requested by writing to the address below or via the Internet at: http://www.uscg.mil/hq/g-m/mso/mso4/mepc.html.

Members of the public are invited to attend this meeting up to the seating capacity of the room. For further information, or to submit views in advance of the meeting, please contact Lieutenant Beck, U.S. Coast Guard, Environmental Standards Division (G-MSO-4), 2100 Second Street, SW., Washington, DC 20593-0001; telephone: (202) 267-0713; fax: (202) 267-4690; or e-mail: dbeck@comdt.uscg.mil.

Dated: October 18, 2001.
Stephen M. Miller,
Executive Secretary, Shipping Coordinating Committee, U.S. Department of State.

[FR Doc. 01-27011 Filed 10-25-01; 8:45 am]

BILLING CODE 4710-70-P